DEPARTMENT OF THE INTERIOR

National Park Service

60-Day Notice of Intention To Request Clearance of Information Collection: Opportunity for Public Comment

AGENCY: Department of the Interior, National Park Service.

ACTION: Notice and request for comments.

SUMMARY: Under the provisions of the Paperwork Reduction Act of 1995 (Pub. L. 104-13, 44 U.S.C. 3507) and 5 CFR Part 1320, the National Park Service (NPS) invites public comment on an extension of a currently approved collection of information (OMB No. 1024-0022)

DATES: Public comments on this Information Collection Request (ICR) will be accepted on or before May 7, 2007.

ADDRESSES: Send comments to Lee Dickinson, Special Park Uses Program Manager, National Park Service (NPS), 1849 C Street, NW., (org. code 2460), Washington, DC 20240 or by e-mail at Lee_Dickinson@nps.gov. Also, please send a copy of your comments to Leonard Stowe, Information Collection Clearance Officer, NPS, 1849 C St., (org. code 2605), Washington, DC 20240, or by e-mail at Leonard Stowe@nps.gov. All responses to this notice will be summarized and included in the request for the Office of Management and Budget (OMB) approval. All comments will become a matter of public record. Copies of this form may be obtained from the Internet at http://www.nps.gov/policy/DOrders/BUP.pdf or by contacting Lee Dickinson.

FOR FURTHER INFORMATION CONTACT: Lee Dickinson, Special Park Uses Manager, National Park Service, 1849 C Street, NW., (org. code 2460), Washington, DC 20240; Phone: 205-513-7092: E-mail: Lee_Dickinson@nps.gov.

SUPPLEMENTARY INFORMATION: Title: Backcountry Use Permit (36 CFR 1.5, 1.6, and 2.10).

Form Numbers: 10-404A.

OMB Number: 1024-0022.

Expiration Date: 06/30/07.

Type of Request: Extension of a currently approved collection.

Description of Need: In 1976, the NPS initiated a backcountry registration system in accordance with the regulations found at 36 CFR 1.5, 1.6 and 2.10. The objective of the backcountry use permit system is to provide users access to backcountry areas of national parks with continuing opportunities for solitude, while enhancing resource protection and providing a means of disseminating public safety messages regarding backcountry travel.

NPS backcountry program managers, by designating access routes and overnight camping locations, can redistribute campers in response to user impact, high fire danger, flood or wind hazard, bear activity or other situations that may temporarily close a portion of the backcountry. The NPS may also use the permit system as a means of ensuring that each backcountry user receives up-to-date information on backcountry sanitation procedures, food storage, wildlife activity, trail conditions and weather projections so that concerns for visitor safety are met.

The Backcounty Use Permit is an extension of the NPS statutory authority responsibility to protect the park areas it administers and to manage the public use thereof (16 U.S.C. Sections 1 and 3). NPS regulations codified in 36 CFR Parts 1 through 7, 12 amd 13, are designated to implement statutory mandates that provide for resource protection and public enjoyment. The Backcountry Use Permit is the primary form used to provide access into NPS backcountry areas including those areas that require a reservation to enter where use limits are imposed in accordance with other NPS regulations. Such permitting enhances the ability to the NPS to education users on potential hazards, search and rescue efforts, and resource protection.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Description of Respondents: Individuals wishing to use backcountry areas within national parks.

Estimated annual number of respondents: 285,000.

Estimated annual number of responses: 285,000.

Estimated average burden hours per response: 5 minutes.

Estimated frequency of response: 1 time.

Estimated annual resorting burden: 22,800 hours per year.

Dated: January 29, 2007.
Leonard E. Stowe,
NPS, Information Collection Clearance Officer.

[FR Doc. 07-1081 Filed 3-7-07; 8:45 am]

BILLING CODE 4312-52-M